DEPARTMENT OF COMMERCE

Foreign-Trade Zones Board

[Order No. 2093]

Grant of Authority; Establishment of a Foreign-Trade Zone Under the Alternative Site Framework Jefferson County, Colorado

Pursuant to its authority under the Foreign-Trade Zones Act of June 18, 1934, as amended (19 U.S.C. 81a-81u), the Foreign-Trade Zones Board (the Board) adopts the following Order:

Whereas, the Foreign-Trade Zones (FTZ) Act provides for “ . . . the establishment . . . of foreign-trade zones in ports of entry of the United States, to expedite and encourage foreign commerce, and for other purposes,” and authorizes the FTZ Board (the Board) to grant to qualified corporations the privilege of establishing foreign-trade zones in or adjacent to U.S. Customs and Border Protection ports of entry;

Whereas, the Board adopted the alternative site framework (ASF) (15 CFR Sec. 400.2(c)) as an option for the establishment or reorganization of zones;

Whereas, the Jefferson County Economic Development Corporation (the Grantee), a non-profit corporation, has made application to the Board (B-9-2019, docketed February 25, 2019), requesting the establishment of a foreign-trade zone under the ASF with a service area of Boulder, Clear Creek, Gilpin and Jefferson Counties, Colorado, adjacent to the Rocky Mountain Metropolitan Airport Customs and Border Protection user fee airport;

Whereas, notice inviting public comment has been given in the Federal Register (84 FR 7018-7019, March 1, 2019) and the application has been processed pursuant to the FTZ Act and the Board's regulations; and,

Whereas, the Board adopts the findings and recommendations of the examiner's report, and finds that the requirements of the FTZ Act and the Board's regulations are satisfied;

Now, therefore, the Board hereby grants to the Grantee the privilege of establishing a foreign-trade zone, designated on the records of the Board as Foreign-Trade Zone No. 298, as described in the application, and subject to the FTZ Act and the Board's regulations, including Section 400.13, to the Board's standard 2,000-acre activation limit, and to the user fee agreement for the Rocky Mountain Metropolitan Airport CBP user fee airport remaining in effect.

Dated: February 20, 2020.
Wilbur L. Ross, Jr.,
Secretary of Commerce, Chairman and Executive Officer, Foreign-Trade Zones Board.

[FR Doc. 2020-04364 Filed 3-3-20; 8:45 am]

BILLING CODE 3510-DS-P